DEPARTMENT OF ENERGY

Federal Energy Regulatory Commission

[Docket No. EG01-1-000]

Quinnipiac Energy, LLC; Notice of Application for Commission Determination of Exempt Wholesale Generator Status

October 10, 2000.

Take notice that on October 4, 2000, Quinnipiac Energy, LLC (Quinnipiac), with its address at 800 Village Walk #324, Guilford, CT 06437, filed with the Federal Energy Regulatory Commission (Commission) an application for determination of exempt wholesale generator status pursuant to part 365 of the Commission's regulations.

Quinnipiac is a Delaware limited liability company that will be engaged directly and exclusively in the business of owning or operating, or both owning and operating, all or part of one or more eligible facilities to be located in New Haven, Connecticut. The eligible facilities will consist of an approximately 75 MW oil-fired electric generation project and related interconnection facilities. The output of the eligible facilities will be sold at wholesale.

Any person desiring to be heard concerning the application for exempt wholesale generator status should file a motion to intervene or comments with the Federal Energy Regulatory Commission, 888 First Street, NE, Washington, DC 20426, in accordance with Rules 211 and 214 of the Commission's Rules of Practice and Procedure (18 CFR 385.211 and 385.214). The Commission will limit its consideration of comments to those that concern the adequacy or accuracy of the application. All such motions and comments should be filed on or before October 31, 2000, and must be served on the applicant. Any person wishing to become a party must file a motion to intervene. Copies of this filing are on file with the Commission and are available for public inspection or on the Internet at http://www.ferc.fed.us/online/rims.htm (please call (202) 208-2222 for assistance).

David P. Boergers
Secretary

[FR Doc. 00-26557 Filed 10-16-00; 8:45 am]

BILLING CODE 6717-01-M